DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with section 212 of the Small Business Regulatory Enforcement Fairness Act of 1996. It consists of a summary of rules appearing in Federal Acquisition Circular (FAC) 2001-18 which amend the FAR. An asterisk (*) next to a rule indicates that a regulatory flexibility analysis has been prepared. Interested parties may obtain further information regarding these rules by referring to FAC 2001-18 which precedes this document. These documents are also available via the Internet at http://www.arnet.gov/far.

FOR FURTHER INFORMATION CONTACT: Laurie Duarte, FAR Secretariat, (202) 501-4225. For clarification of content, contact the analyst whose name appears in the table below.

List of Rules in FAC 2001-18
Item | Subject | FAR case | Analyst
I | New Consolidated Form for Selection of Architect-Engineer Contractors | 2000-608 | Davis.
II | Depreciation Cost Principle | 2001-026 | Loeb.
III | Federal Procurement Data System | 2003-019 | Zaffos.
IV | Increased Federal Prison Industries, Inc. Waiver Threshold | 2003-001 | Nelson.
V | Debarment and Suspension—Order Placement and Option Exercise | 2002-010 | Goral.
VI | Insurance and Pension Costs | 2001-037 | Loeb.
VII | Debriefing—Competitive Acquisition | 2002-014 | Wise.
VIII | Technical Amendments

Item I—New Consolidated Form for Selection of Architect-Engineer Contractors (FAR Case 2000-608)

This final rule amends the FAR to replace SF 254, Architect-Engineer and Related Services Questionnaire, and SF 255, Architect-Engineer and Related Services Questionnaire for Specific Projects, with SF 330, Architect-Engineer Qualifications. The SF 330 reflects current architect-engineer practices in a streamlined and updated format and is organized into data blocks that readily support automation. An interagency ad hoc committee developed the SF 330. It was based on the results of a joint Federal-industry survey of the existing SFs 254 and 255 conducted by the Standing Committee on Procurement and Contracting of the Federal Facilities Council (FCC) in 1995 and published in 1996 as FCC Report Number 130, entitled “Survey on the Use of SFs 254 and 255 for Architect-Engineer Qualifications.” The survey's purpose was to evaluate the current use of the forms, which are used for the submission of qualifications by architect-engineer (A-E) firms interested in Federal contracts, and to identify possible improvements which would enable the existing forms to better serve the needs of Federal agencies and the A-E industry.

The policies and the SF 330, Architect-Engineer Qualifications, of this final rule are effective for all agencies and their solicitations issued on or after January 12, 2004. However, agencies may delay implementation of this final rule until June 8, 2004, at which time it becomes mandatory for all agencies and their solicitations issued on or after that date. Use of the SF 330 becomes effective January 12, 2004. However, until June 8, 2004, agencies may authorize the continued use of the SFs 254 and 255 instead.

Item II—Depreciation Cost Principle (FAR Case 2001-026)

This final rule amends FAR parts 2 and 31 to revise the depreciation cost principle (FAR 31.205-11) by improving clarity and structure and removing unnecessary and duplicative language. The case was initiated at the request of the Aerospace Industries Association. The rule does not change the allowability of depreciation costs. However, changes have been made that may effect the determination of depreciable costs for tangible personal property; for example, only residual values in excess of 10 percent need be used and residual values need not be recognized when certain depreciation methods are used. This rule is of particular interest to contractors and contracting officers who use cost analysis to price contracts and modifications, and who determine or negotiate reasonable costs in accordance with a clause of a contract, e.g., price revision of fixed-price incentive contracts, terminated contracts, or indirect cost rates.

Item III—Federal Procurement Data System (FAR Case 2003-019)

This final rule amends the FAR to revise FAR 4.602 to—

• Reflect that the information in FPDS-NG is available to the general public;

• Provide the Web site for FPDS-NG, which must be entered as https://www.fpds.gov;

• Delete the physical address for the Federal Procurement Data Center;

• Allow agencies to report all transactions between $2,500 and $25,000 to FPDS-NG as either individual contract actions or summary contract actions until September 30, 2004;

• Require all contract actions over $2,500 be reported to FPDS-NG as individual contract actions after September 30, 2004;

• Require agencies to insert the provision at 52.204-6, Data Universal Numbering System (DUNS) Number, in solicitations when the expected award amount will result in the generation of an individual contract action report and the contract does not include FAR clause 52.204-7, Central Contractor Registration; and

• Eliminate the use of the SF 279, Federal Procurement Data System (FPDS)—Individual Contract Action Report, and the SF 281, Federal Procurement Data System (FPDS)—Summary Contract Action Report ($25,000 or Less).

Item IV—Increased Federal Prison Industries, Inc. Waiver Threshold (FAR Case 2003-001)

The interim rule published as Item V of FAC 2001-014 is adopted as final without change. The interim rule amended the FAR to increase the Federal Prison Industries, Inc.'s (FPI) clearance exception threshold at FAR 8.606(e) from $25 to $2,500, and deleted the criterion that delivery is required within 10 days. Federal agencies are not required to make purchases from FPI of products on FPI's Schedule that are at or below this threshold. Federal agencies, however, may continue to consider and purchase products from FPI that are at or below $2,500.

Item V—Debarment and Suspension—Order Placement and Option Exercise (FAR Case 2002-010)

This final rule amends FAR part 9 to address the placement of orders under existing contracts and agreements with contractors that have been debarred, suspended, or proposed for debarment.

Item VI—Insurance and Pension Costs (FAR Case 2001-037)

This final rule amends the FAR to revise the Insurance and Indemnification cost principle (FAR 31.205-19), and the portion of the Compensation for Personal Services cost principle relating to pension costs (FAR 31.205-6(j)). The rule revises both cost principles by improving clarity and structure, and removing unnecessary and duplicative language. Changes to FAR 31.205-6(j) include: Use of terminology consistent with Cost Accounting Standard (CAS) 412, Measurement of Pension Costs, and CAS 413, Adjustment and Allocation of Pension Cost; how the government receives pension cost adjustment amounts for CAS-covered and non-CAS-covered contracts; revision of the allowability limitation on employee stock ownership plan (ESOP) contributions; and removal of the requirement for the contracting officer to approve the ESOP contribution rate. Changes to FAR 31.205-19 include the elimination of the U.S. Treasury discount rate provision for computing actual losses. The case was initiated as a result of comments and recommendations received from industry and government representatives during a series of public meetings. This rule is of particular interest to contractors and contracting officers who use cost analysis to price contracts and modifications, and who determine or negotiate reasonable costs in accordance with a clause of a contract, e.g., price revision of fixed-price incentive contracts, terminated contracts, or indirect cost rates.

Item VII—Debriefing—Competitive Acquisition (FAR Case 2002-014)

This rule amends the FAR to include requirements for debriefing unsuccessful offerors under competitive proposals, as required by sections 1014 and 1064 of the Federal Acquisition Streamlining Act of 1994, as amended, 10 U.S.C. 2305(b) and 41 U.S.C. 253b, respectively. Specifically, 10 U.S.C. 2305(b)(5)(D) and 41 U.S.C. 253b(e)(4) requires each solicitation for competitive proposals to include a statement that prescribes minimal information that shall be disclosed in postaward debriefings. This rule also amends FAR 52.212-1 and 52.215-1 to implement the statutory requirements, and the past performance debriefing requirement at FAR 15.506(d)(2), by listing all the prescribed minimal information that shall be disclosed in postaward debriefings.

Item VIII—Technical Amendments

This amendment makes editorial changes at FAR 1.201-1(b)(1); 6.302-7(c)(1)(i); 13.500(d); 25.701(b); 52.204-7, Alternate I; 52.211-2(a) and (b); and 52.225-13(b).

Dated: December 4, 2003.
Laura Auletta,
Director, Acquisition Policy Division.

[FR Doc. 03-30480 Filed 12-10-03; 8:45 am]

BILLING CODE 6820-EP-P